DEPARTMENT OF LABOR

Employment and Training Administration

[TA-W-40,313]

Montgomery Wards, El Paso, TX; Notice of Termination of Investigation

Pursuant to section 221 of the Trade Act of 1974, an investigation was initiated on November 5, 2001 in response to a worker petition filed on behalf of workers at Montgomery Wards, El Paso, Texas. The workers were engaged in retail sales and did not produce an article.

The company has gone out of business and the Department of Labor has been unable to locate company officials or to obtain information necessary to reach a determination on worker eligibility. Consequently, further investigation in this case would serve no purpose, and the investigation has been terminated.

Signed in Washington, DC this 7th day of October 2002.
Richard Church,
Certifying Officer, Division of Trade Adjustment Assistance.

[FR Doc. 02-26752 Filed 10-21-02; 8:45 am]

BILLING CODE 4510-30-P